DEPARTMENT OF ENERGY

Federal Energy Regulatory Commission

Combined Notice of Filings #1

Take notice that the Commission received the following electric corporate filings:

Docket Numbers: EC25-12-000.

Applicants: BlackRock, Inc.

Description: Joint Application for Authorization Under Section 203 of the Federal Power Act of BlackRock, Inc., et al.

Filed Date: 10/21/24.

Accession Number: 20241021-5210.

Comment Date: 5 p.m. ET 11/12/24.

Take notice that the Commission received the following electric rate filings:

Docket Numbers: ER10-1484-033; ER12-2381-019; ER13-1069-022; ER14-1140-009.

Applicants: Inspire Energy Holdings, LLC, MP2 Energy LLC, MP2 Energy NE LLC, Shell Energy North America (US), L.P.

Description: Notice of Change in Status of Inspire Energy Holdings, LLC, et al.

Filed Date: 10/22/24.

Accession Number: 20241022-5192.

Comment Date: 5 p.m. ET 11/12/24.

Docket Numbers: ER22-962-007.

Applicants: PJM Interconnection, L.L.C.

Description: Compliance filing: Order No. 2222 Compliance Filing and Motion to Modify Effective Date to be effective 2/2/2026.

Filed Date: 10/23/24.

Accession Number: 20241023-5074.

Comment Date: 5 p.m. ET 11/13/24.

Docket Numbers: ER24-2896-001.

Applicants: ALLETE, Inc.

Description: Tariff Amendment: ALLETE CMA Deferral Filing to be effective 12/31/9998.

Filed Date: 10/23/24.

Accession Number: 20241023-5113.

Comment Date: 5 p.m. ET 11/13/24.

Docket Numbers: ER24-2899-001.

Applicants: PJM Interconnection, L.L.C.

Description: Tariff Amendment: Amendment of ER24-2899-000; Original GIA SA No. 7337; AF2-238 to be effective. 7/29/2024.

Filed Date: 10/23/24.

Accession Number: 20241023-5007.

Comment Date: 5 p.m. ET 11/13/24.

Docket Numbers: ER25-182-000.

Applicants: PacifiCorp.

Description: 205(d) Rate Filing: Colstrip Project Transmission Agreement 2nd A&R—Concurrence (RS No. 377) to be effective 10/5/2024.

Filed Date: 10/23/24.

Accession Number: 20241023-5032.

Comment Date: 5 p.m. ET 11/13/24.

Docket Numbers: ER25-183-000.

Applicants: Baron Winds LLC.

Description: 205(d) Rate Filing: Market Based Rate to be effective 12/5/2022.

Filed Date: 10/23/24.

Accession Number: 20241023-5076.

Comment Date: 5 p.m. ET 11/13/24.

Docket Numbers: ER25-184-000.

Applicants: Pleasant Hill Solar, LLC.

Description: 205(d) Rate Filing: Market Based Rate to be effective 12/19/2022.

Filed Date: 10/23/24.

Accession Number: 20241023-5086.

Comment Date: 5 p.m. ET 11/13/24.

Docket Numbers: ER25-185-000.

Applicants: Radford's Run Wind Farm, LLC.

Description: 205(d) Rate Filing: Market Based Rate to be effective 6/1/2017.

Filed Date: 10/23/24.

Accession Number: 20241023-5090.

Comment Date: 5 p.m. ET 11/13/24.

Docket Numbers: ER25-186-000.

Applicants: Water Strider Solar, LLC.

Description: 205(d) Rate Filing: Market Based Rate to be effective 10/13/2020.

Filed Date: 10/23/24.

Accession Number: 20241023-5091.

Comment Date: 5 p.m. ET 11/13/24.

Docket Numbers: ER25-187-000.

Applicants: Watlington Solar, LLC.

Description: 205(d) Rate Filing: Market Based Rate to be effective 12/19/2022.

Filed Date: 10/23/24.

Accession Number: 20241023-5093.

Comment Date: 5 p.m. ET 11/13/24.

Docket Numbers: ER25-189-000.

Applicants: Alabama Power Company, Georgia Power Company, Mississippi Power Company.

Description: 205(d) Rate Filing: Alabama Power Company submits tariff filing per 35.13(a)(2)(iii: Shubuta Creek Solar LGIA Filing to be effective 10/20/2024.

Filed Date: 10/23/24.

Accession Number: 20241023-5108.

Comment Date: 5 p.m. ET 11/13/24.

Docket Numbers: ER25-190-000.

Applicants: Midcontinent Independent System Operator, Inc.

Description: 205(d) Rate Filing: 2024-10-23_SA 4374 ATC-Superior Solar Project GIA (J1750) to be effective 10/15/2024.

Filed Date: 10/23/24.

Accession Number: 20241023-5133.

Comment Date: 5 p.m. ET 11/13/24.

Docket Numbers: ER25-191-000.

Applicants: Citizens S-Line Transmission LLC.

Description: 205(d) Rate Filing: Annual TRBAA Filing to be effective 12/31/9998.

Filed Date: 10/23/24.

Accession Number: 20241023-5148.

Comment Date: 5 p.m. ET 11/13/24.

Docket Numbers: ER25-192-000.

Applicants: The Dayton Power and Light Company.

Description: 205(d) Rate Filing: Transmission Customer New or Upgraded Service Construction Service Agreement to be effective 12/23/2024.

Filed Date: 10/23/24.

Accession Number: 20241023-5154.

Comment Date: 5 p.m. ET 11/13/24.

Take notice that the Commission received the following qualifying facility filings:

Docket Numbers: QF25-55-000.

Applicants: PVS Chemical Solutions, Inc.

Description: Form 556 of PVS Chemical Solutions, Inc.

Filed Date: 10/23/24.

Accession Number: 20241023-5048.

Comment Date: 5 p.m. ET 11/13/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 23, 2024.
Debbie-Anne A. Reese,
Secretary.

[FR Doc. 2024-25158 Filed 10-29-24; 8:45 am]

BILLING CODE 6717-01-P